DEPARTMENT OF THE INTERIOR

National Park Service

[NPS-WASO-NAGPRA-NPS0038567; PPWOCRADN0-PCU00RP14.R50000]

Notice of Intended Repatriation: Office of the State Archaeologist Bioarchaeology Program, University of Iowa, Iowa City, IA

AGENCY: National Park Service, Interior.

ACTION: Notice.

SUMMARY: In accordance with the Native American Graves Protection and Repatriation Act (NAGPRA), the Office of the State Archaeologist Bioarchaeology Program (OSA-BP) intends to repatriate a certain cultural item that meets the definition of a sacred object and that has a known lineal descendant.

DATES: Repatriation of the cultural item in this notice may occur on or after September 23, 2024.

ADDRESSES: Dr. Lara Noldner, Office of the State Archaeologist Bioarchaeology Program, University of Iowa, 700 S Clinton Street, Iowa City, IA 52242, telephone (319) 384-0740, email lara-noldner@uiowa.edu.

SUPPLEMENTARY INFORMATION: This notice is published as part of the National Park Service's administrative responsibilities under NAGPRA. The determinations in this notice are the sole responsibility of the OSA-BP, and additional information on the determinations in this notice, including the results of consultation, can be found in the summary or related records. The National Park Service is not responsible for the determinations in this notice.

Abstract of Information Available

A total of one cultural item has been requested for repatriation. The sacred object is an elkhorn beaded necklace. This item was acquired by James West at an unknown time; a note with the necklace indicates it originated from an estate sale in southwestern Minnesota with “L. Sioux” in parentheses. The necklace was donated along with several other unprovenienced artifacts to the University of Iowa Office of the State Archaeologist (OSA Catalogue # 2021-3-1) by James' wife Jeanne in October of 2021. In consultation with the representatives of the Flandreau Santee Sioux Tribe of South Dakota, Upper Sioux Community, Minnesota, and Wahpekute Dakota the necklace was identified as belonging to lineal descendants of Inyangmani. No potentially hazardous materials are present on the item.

Determinations

The OSA-BP has determined that:

• The one sacred object described in this notice is a specific ceremonial object needed by a traditional Native American religious leader for present-day adherents to practice traditional Native American religion, according to the Native American traditional knowledge of a lineal descendant, Indian Tribe, or Native Hawaiian organization.

• Dr. Chris Mato Nunpa, Dr. Waziyatawin, Inyan Mani Hoksida (“Running Walker Boy”, John Roberts), Annie Roberts Adams, Eliza Roberts Cavender, Elsie Two Bear Cavendar, and Carrie Cavender Schommer are connected to the cultural item described in this notice.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after September 23, 2024. If competing requests for repatriation are received, the OSA-BP must determine the most appropriate requestor prior to repatriation. Requests for joint repatriation of the cultural item are considered a single request and not competing requests. The OSA-BP is responsible for sending a copy of this notice to the Indian Tribes and Native Hawaiian organizations identified in this notice and to any other consulting parties.

Authority: Native American Graves Protection and Repatriation Act, 25 U.S.C. 3004 and the implementing regulations, 43 CFR 10.9.

Dated: August 15, 2024
Mariah Soriano,
Acting Manager, National NAGPRA Program.

[FR Doc. 2024-18951 Filed 8-22-24; 8:45 am]

BILLING CODE 4312-52-P